COMMISSION ON CIVIL RIGHTS

Agenda and Notice of a Change to the Public Meeting of the Florida Advisory Committee Which was Published in Federal Register on November 29, 2004 (Doc #) 26264

Notice is hereby given, pursuant to the provisions of the rules and regulations of the U.S. Commission on Civil Rights, that a meeting of the Florida Advisory Committee to the Commission will convene at 8:30 a.m. and adjourn at 1:30 p.m. on December 10, 2004, at the U.S. Small Business Administration, 100 South Biscayne Blvd. 7th fl. Rm. 100, Miami, FL 33131. The purpose of the meeting is to determine what Civil Rights issues will be reviewed as a project.

Persons desiring additional information, or planning a presentation to the Committee, should contact Ivy Davis, Chief of the Regional Programs Coordination Unit, (202) 376-7700 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, December 2, 2004.
Ivy L. Davis,
Chief, Regional Programs Coordination Unit.

[FR Doc. 04-26924 Filed 12-7-04; 8:45 am]

BILLING CODE 6335-01-P